NUCLEAR REGULATORY COMMISSION

[NRC-2016-0001]

Sunshine Act Meeting Notice

DATE: January 11, 18, 25, February 1, 8, 15, 2016.

PLACE: Commissioners' Conference Room, 11555 Rockville Pike, Rockville, Maryland.

STATUS: Public and Closed.

Week of January 11, 2016

There are no meetings scheduled for the week of January 11, 2016.

Week of January 18, 2016—Tentative

There are no meetings scheduled for the week of January 18, 2016.

Week of January 25, 2016—Tentative

There are no meetings scheduled for the week of January 25, 2016.

Week of February 1, 2016—Tentative

There are no meetings scheduled for the week of February 1, 2016.

Week of February 8, 2016—Tentative

There are no meetings scheduled for the week of February 8, 2016.

Week of February 15, 2016—Tentative

There are no meetings scheduled for the week of February 15, 2016.

* * * * *

The schedule for Commission meetings is subject to change on short notice. For more information or to verify the status of meetings, contact Denise McGovern at 301-415-0681 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: January 6, 2016.
Denise L. McGovern,
Policy Coordinator, Office of the Secretary.

[FR Doc. 2016-00306 Filed 1-6-16; 4:15 pm]

BILLING CODE 7590-01-P